DEPARTMENT OF ENERGY

Energy Information Administration

Agency Information Collection Extension

AGENCY: Energy Information Administration (EIA), Department of Energy (DOE).

ACTION: Notice.

SUMMARY: EIA submitted an information collection request for extension as required by the Paperwork Reduction Act of 1995. The information collection requests a three-year extension of its Form EIA-111 Quarterly Electricity Imports and Exports Report, OMB Control Number 1905-0208. Form EIA-111 collects information on U.S. imports and exports of electricity. Data are used to obtain estimates on the flows of electricity into and out of the United States.

DATES: Comments on this information collection must be received no later than June 23, 2021. Written comments and recommendations for the proposed information collection should be sent within 30 days of publication of this notice to www.reginfo.gov/public/do/PRAMain. Find this particular information collection by selecting “Currently under 30-day Review—Open for Public Comments” or by using the search function.

FOR FURTHER INFORMATION CONTACT: If you need additional information, contact Tosha Beckford at (202) 287-6597 or by email at tosha.beckford@eia.gov. The forms and instructions are available on EIA's website at http://www.eia.gov/survey/changes/ electricity/.

SUPPLEMENTARY INFORMATION: This information collection request contains

(1) OMB No.: 1905-0208;

(2) Information Collection Request Title: Quarterly Electricity Imports and Exports Report;

(3) Type of Request: Three-year extension without change;

(4) Purpose: Form EIA-111 collects U.S. electricity import and export data on a quarterly basis. The data are used to measure the flow of electricity into and out of the United States. The import and export data are reported by U.S. purchasers, sellers and transmitters of wholesale electricity, including persons authorized by Order to export electric energy from the United States to foreign countries, persons authorized by Presidential Permit to construct, operate, maintain, or connect electric power transmission lines that cross the U.S. international border, and U.S. Balancing Authorities that are directly interconnected with foreign Balancing Authorities. Such entities report monthly flows of electric energy received or delivered across the border, the cost associated with the transactions, and actual and implemented interchange.

(4a) Proposed Changes to Information Collection: No changes;

(5) Annual Estimated Number of Respondents: 180;

(6) Annual Estimated Number of Total Responses: 720;

(7) Annual Estimated Number of Burden Hours: 1,080;

(8) Annual Estimated Reporting and Recordkeeping Cost Burden: $88,182 (1,080 burden hours times $81.65 per hour). EIA estimates that respondents will have no additional costs associated with the surveys other than the burden hours and the maintenance of the information as part of the normal course of business.

Comments are invited on whether or not: (a) The proposed collection of information is necessary for the proper performance of agency functions, including whether the information will have a practical utility; (b) EIA's estimate of the burden of the proposed collection of information, including the validity of the methodology and assumptions used, is accurate; (c) EIA can improve the quality, utility, and clarity of the information it will collect; and (d) EIA can minimize the burden of the collection of information on respondents, such as automated collection techniques or other forms of information technology.

Statutory Authority: 15 U.S.C. 772(b), 42 U.S.C. 7101 et seq.

Signed in Washington, DC, on May 18, 2021.
Samson A. Adeshiyan,
Director, Office of Statistical Methods and Research, U. S. Energy Information Administration.

[FR Doc. 2021-10884 Filed 5-21-21; 8:45 am]

BILLING CODE 6450-01-P